DEPARTMENT OF AGRICULTURE

Natural Resources Conservation Service

[Docket No. NRCS-2024-0021]

Notice of Intent To Prepare an Environmental Impact Statement for the Owyhee Irrigation District Infrastructure Modernization Project, Malheur County, OR

AGENCY: Natural Resources Conservation Service, USDA.

ACTION: Notice of Intent (NOI) to prepare an Environmental Impact Statement (EIS).

SUMMARY: The Natural Resources Conservation Service (NRCS) Oregon State Office, in coordination with the U.S. Bureau of Reclamation, announces its intent to prepare an EIS for the Owyhee Irrigation District (OID) Infrastructure Modernization Project (Modernization Project). The project area is located along the Owyhee and Snake rivers in Eastern Oregon 50 miles west of Boise, Idaho in proximity to the town of Nyssa, Oregon. The proposed EIS will examine alternative solutions to improve the OID agricultural water management. OID is the sponsoring local organization for the project. NRCS is requesting comments to identify significant issues, potential alternatives, information, and analyses relevant to the proposed action from all interested individuals, Federal and State agencies, and Tribes.

DATES: We will consider comments that we receive by February 18, 2025. We will consider comments received after close of the comment period to the extent possible.

ADDRESSES: We invite you to submit comments in response to this notice. You may submit your comments through the method below:

• Federal eRulemaking Portal: Go to https://www.regulations.gov and search for docket ID NRCS-2024-0021. Follow the online instructions for submitting comments.

All comments received will be posted without change and made publicly available on www.regulations.gov.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The purpose of the OID Modernization Project is to improve agricultural water management by making the delivery of irrigation water for agricultural lands within OID more reliable and efficient. Watershed planning is authorized under the Watershed Protection and Flood Prevention Act of 1954 (Pub. L. 83-566), as amended, and the Flood Control Act of 1944 (Pub. L. 78-534).

This action is needed to alleviate inefficient and unreliable access to irrigation water which causes agricultural damages for farmers in OID. Agriculture is an essential part of the Malheur County economy which only receives 10.1 inches of precipitation a year, with only 1.5 inches falling during the months of June, July, and August. The insignificant amounts of precipitation limit the ability of agricultural production. OID was formed with the primary purpose of providing the delivery of Owyhee River and Snake River water within Malheur County. Access to this irrigation water has allowed development of the agricultural community within the area. The OID area has been reliant on irrigation water delivery for over 100 years. The OID supplies water to approximately 312,000 acres during a normal water year.

OID operates and maintains more than 400 miles of canals, laterals, and siphons through the Bureau of Reclamation's Owyhee Project. OID delivers water to 1,012 patrons and 1,364 parcels from three primary diversions: the Owyhee River via the Owyhee Reservoir and two pumping stations located along the Snake River. The OID conveyance system irrigates approximately 67,000 total acres of onions, sugar beets, corn, alfalfa, and other crops.

Due to rising temperatures and decreasing snowpack, supply shortages are expected to worsen in the coming decades. Between 2013 and 2023, the State issued drought declarations six times in Malheur County. The ability to deliver water efficiently and effectively, especially during drought years, is essential. The majority of the OID infrastructure is approximately 90 years old, which has reduced the water delivery reliability for agricultural use and is at risk of failure. Catastrophic failure of the OID infrastructure would stop water deliveries while the conveyance system is fixed, which would have large impacts to crops and users that rely on water supplied by OID.

The proposed project would modernize the OID system through a series of projects including canal piping; canal lining; siphon improvements; headgate and diversion improvements; and installation of supervisory control and data acquisition (SCADA) systems. During the irrigation season, the current OID system loses water due to seepage, evaporation, and operational inefficiencies. The water that is lost enters the OID system, but never reaches the farms.

In accordance with the regulation in 7 CFR 650.7(a)(2), an EIS is required for projects requiring congressional action such as this proposed project, where estimated federal funds required for construction may exceed $25 million. 16 U.S.C. 1002.

Preliminary Proposed Action and Alternatives, Including No Action

The EIS objective is to formulate and evaluate alternatives that would decrease agricultural damages due to the unreliable and inefficient access to irrigation water within OID. The EIS is expected to evaluate two alternatives: one no action alternative and one action alternative.

The alternatives that may be considered for detailed analysis include:

• Alternative 1—No Action Alternative: Taking no action would consist of activities conducted if no Federal action or funding were provided. No watershed project would be implemented, and the OID infrastructure would not be modernized. OID would continue operating and maintaining its system in its current state. The No Action Alternative would not meet the OID Modernization Project's purpose and need.

• Alternative 2—Proposed Action Alternative: The proposed action is to evaluate a suite of system improvement measures across OID including: piping 74.8 miles of canal; lining 8.5 miles of canal; installing 13 SCADA sites; upgrading 2 headgates; and upgrading 13 siphons. The projects included in the Proposed Action would serve 67,134.5 acres within OID.

Summary of Expected Impacts

As mentioned above, the estimated Federal contribution to construction cost will exceed $25 million.

The EIS will be prepared as required by section 102(2)(C) of the National Environmental Policy Act of 1969 (NEPA); the Council on Environmental Quality Regulations (40 CFR parts 1500 through 1508); and NRCS regulations that implement NEPA in 7 CFR part 650.

Resource concerns for scoping were identified and categorized as relevant or not relevant to the proposed OID Modernization Project action. OID and NRCS evaluated the current infrastructure conditions in addition to relevant resource concerns for each proposed solution. Environmental resources in the project area consist of the natural and human-made environment. Resource concerns to be identified and addressed in the EIS include: cultural resources; economics; soils; land use; environmental justice; endangered and threatened species; wildlife, hydrology, wetlands, vegetation, and climate change. Other resources may be identified through the scoping process.

Anticipated Permits and Authorizations

The following permits and authorizations are anticipated to be required:

• Endangered Species Act (ESA). Consultation with the U.S. Fish and Wildlife Service and National Marine Fisheries Service will be conducted as required by the ESA of 1973.

• National Historic Preservation Act (NHPA) Section 106. Consultation with Tribal Nations and interested parties would be conducted as required by the NHPA.

• Clean Water Act (CWA) and National Pollutant Discharge Elimination System (NPDES). The project would require water quality certification under section 401 of CWA; permitting under section 402 of NPDES; and section 404 of CWA for potential wetland impacts.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 16 months after publication of this NOI. A Final EIS is anticipated to be published within 6 months of completion of the public comment period for the DEIS.

NRCS will decide whether to implement one of the action alternatives as evaluated in the EIS. A Record of Decision will be completed after the required 30-day waiting period and will be publicly available. The Responsible Federal Official (RFO) and decision maker for NRCS is the Oregon NRCS State Conservationist.

Public Scoping Process

A public scoping meeting is scheduled to occur early 2025 and will be held at a public venue near the OID project area. Exact meeting locations and times will be determined closer to the dates of the events. Public notices will be placed in local newspapers and on the NRCS, OID, and the U.S. Bureau of Reclamation websites. Additionally, a letter providing details on the public meetings and the scoping comment and objection processes will be sent to Federal and State agencies, Tribes, local landowners, and interested parties. Scoping meeting presentation materials will be available on the project website: https://project.com/watershed-project/.

Public scoping meetings provide an opportunity to review and evaluate the alternatives, express concern or support, and gain further information regarding the project. Comments received, including the names and addresses of those who comment, will be part of the public record. Comments submitted anonymously will be accepted and considered.

Identification of Potential Alternatives, Information, and Analyses

NRCS, OID, and the U.S. Bureau of Reclamation invite agencies, Tribes, and individuals that have special expertise, legal jurisdiction, or interest, to provide comments concerning the scope of the analysis and identification of potential alternatives, information, and analyses relevant to the Proposed Action.

NRCS, OID, and the U.S. Bureau of Reclamation will use the scoping process to help fulfill the public involvement process under section 106 of NHPA (54 U.S.C. 306108), as provided in 36 CFR 800.2(d)(3). The information about historic and cultural resources within the area potentially affected by the proposed project will assist NRCS in identifying and evaluating impacts to resources in the context of both NEPA and NHPA.

NRCS will consult with Native American tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended, and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This proposed project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202)690-7442; or (3) email: program.intake@usda.gov.

USDA is an equal opportunity provider, employer, and lender.

Greggory Becker,
Oregon State Conservationist, Natural Resources Conservation Service.

[FR Doc. 2025-00958 Filed 1-15-25; 8:45 am]

BILLING CODE 3410-16-P